DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Social Impacts of the Implementation of a Catch Shares Program in the Mid-Atlantic.

OMB Control Number: None.

Form Number(s): NA.

Type of Request: Regular submission (request for approval of a new information collection.

Number of Respondents: 270.

Average Hours per Response: 25 minutes.

Burden Hours: 113.

Needs and Uses: This is a request for approval of a new information collection. Social Impact Assessment (SIA) is required in fisheries under both the National Environmental Policy Act (42 U.S.C. 4321 et seq.) and the Magnuson-Stevens Fishery Conservation and Management Act (16 U.S.C. 1801 et seq.).

The required information is used to evaluate the impacts of the proposed activity on fishermen still involved in fishing since catch shares were implemented. In promulgating and issuing regulations, National Marine Fisheries Service (NMFS) must determine the relative impacts of different management measures.

Amendment 16 to the Multispecies (groundfish) Fishery Management Plan, implemented on May 1, 2010, is the largest catch share program in number of permit holders that has ever been implemented in the U.S., and includes 17 group quota or `sector' allocations. More catch share plans are in discussion for the Northeast within the next several years. NMFS is required to assess the impact of these plans as well as their impacts relative to other management measures in place in the Northeast.

This research aims to study the immediate post-implementation effects on fishermen in the groundfish fishery and those that have already exited the fishery in the Mid-Atlantic, as well as provide a baseline for other fisheries prior to any implementation of additional catch share programs.

Affected Public: Business or other for-profit organizations.

Frequency: One-time only.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: February 14, 2011.
Gwellnar Banks,
Management Analyst, Office of the Chief Information Officer.

[FR Doc. 2011-3681 Filed 2-17-11; 8:45 am]

BILLING CODE 3510-22-P